DEPARTMENT OF HEALTH AND HUMAN SERVICES

Health Resources and Services Administration

Agency Information Collection Activities: Submission to OMB for Review and Approval; Public Comment Request; COVID-19 Provider Relief Fund and American Rescue Plan (ARP) Rural Payment Reporting Activities, OMB No. 0906-0068—Revision.

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than October 21, 2022.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer at paperwork@hrsa.gov or call (240) 276-7189.

SUPPLEMENTARY INFORMATION:

Information Collection Request Title: COVID-19 Provider Relief Fund (PRF) Reporting Activities OMB No. 0906-0068—Revision.

Abstract: HRSA disburses the PRF and American Rescue Plan (ARP) Rural payments to eligible health care providers to support health care-related expenses or lost revenues attributable to the COVID-19 pandemic. Providers who have attested to the Terms and Conditions regarding their PRF and ARP Rural payment(s), including the requirement that the provider “shall submit reports as the Secretary determines are needed to ensure compliance with conditions that are imposed on this Payment, and such reports shall be in such form, with such content, as specified by the Secretary in future program instructions directed to all Recipients,” will be using the PRF Reporting Portal to submit information about their use of PRF and ARP Rural payments. In anticipation of the approved OMB form (control number 0906-0068) expiring on January 31, 2023, HRSA is undergoing the revision of the ICR approval to include the ARP Rural reporting requirements and to allow for data collection beyond the January 31, 2023 expiration.

A 60-day notice published in the Federal Register, 87, FR pp. 20441 (April 7, 2022). There was one request for program information.

Need and Proposed Use of the Information: Recipients of a PRF and ARP Rural payment agreed to a set of Terms & Conditions (T&Cs), which, among other requirements, mandate compliance with certain reporting requirements that will facilitate appropriate oversight of recipients' use of funds.

Information collected will allow for (1) assessing whether recipients have met statutory and programmatic requirements, (2) conducting audits, (3) gathering data required to report on findings with respect to the disbursements of PRF and ARP Rural payments, and (4) program evaluation. HRSA staff will also use information collected to identify and report on trends in health care metrics and expenditures before and during the allowable period for expending PRF and ARP Rural payments.

Included in this revision are the following:

• A new funding source is now included in the data collection form (the American Rescue Plan Act of 2021 (Pub. L. 117-2) (ARP Rural))

• Additional reporting periods are added for reporting entities to report on use of funds (Reporting Period 5, 6, and 7)

• Updated burden estimates to include ARP Rural payment reporting in Reporting Period 4

• Updated burden estimates to reflect the number of reporting entities and additional reporting periods

• Adjusted burden estimates for providers who have additional reporting requirements

Likely Respondents: PRF and ARP Rural payment recipients who have received more than $10,000 in aggregate PRF and ARP Rural payments during one of the Payment Received Periods outlined below and that agreed to the associated T&Cs are required to submit a report in the PRF Reporting Portal during the applicable Reporting Time Period.

Reporting period | Payment received period (payments exceeding $10,000 in aggregate received) | Reporting time period
Period 1 | April 10, 2020, to June 30, 2020 | July 1, 2021, to September 30, 2021.
Period 2 | July 1, 2020, to December 31, 2020 | January 1, 2022, to March 31, 2022.
Period 3 | January 1, 2021, to June 30, 2021 | July 1, 2022, to September 30, 2022.
Period 4 | July 1, 2021, to December 31, 2021 | January 1, 2023, to March 31, 2023.
Period 5 | January 1, 2022, to June 30, 2022 | July 1, 2023, to September 30, 2023.
Period 6 | July 1, 2022, to December 31, 2022 | January 1, 2024, to March 31, 2024.
Period 7 | January 1, 2023, to June 30, 2023 | July 1, 2024, to September 30, 2024.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
PRF Reporting Portal, Reporting Period 1 (Providers who received payments April 10, 2020, to June 30, 2020) | 126,831 | 1 | 126,831 | 5.6 | 710,254
PRF Reporting Portal, Reporting Period 2 (Providers who received payments July 1, 2020, to December 31, 2020) | 120,536 | 1 | 120,536 | 4.2 | 506,251
PRF Reporting Portal, Reporting Period 3 (Providers who received payments, January 1, 2021, to June 30, 2021) | 20,493 | 1 | 20,493 | 6.1 | 125,007
PRF and ARP Rural Reporting Portal, Reporting Period 4 (Providers who received payments July 1, 2021, to December 31, 2021) | 51,622 | 1 | 51,622 | 5.6 | 289,083
PRF and ARP Rural Reporting Portal, Reporting Period 5 (Providers who received payments January 1, 2022, to June 30, 2022) | 4,256 | 1 | 4,256 | 5.5 | 23,408
PRF and ARP Rural Reporting Portal, Reporting Period 6 (Providers who received payments July 1, 2022, to December 31, 2022) | 1,300 | 1 | 1,300 | 5.4 | 7,020
PRF and ARP Rural Reporting Portal, Reporting Period 7 (Providers who received payments January 1, 2023, to June 30, 2023) | 3,690 | 1 | 3,690 | 5.4 | 19,926
Total | 328,728 |  | 328,728 |  | 1,680,949

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-20359 Filed 9-20-22; 8:45 am]

BILLING CODE 4165-15-P